DEPARTMENT OF THE INTERIOR

Bureau of Land Management

[MT-926-03-1420-BJ]

Montana: Filing of Plat of Survey

AGENCY: Bureau of Land Management, Interior.

ACTION: Notice of Filing of Plat of Survey.

SUMMARY: The Bureau of Land Management (BLM) will file the plat of the survey of the lands described below in the BLM Montana State Office, Billings, Montana, (30) days from the date of publication in the Federal Register.

FOR FURTHER INFORMATION CONTACT: John K. Bunce II, Cadastral Surveyor, Branch of Cadastral Survey, Bureau of Land Management, 5001 Southgate Drive, P.O. 36800, Billings, Montana 59107-6800, telephone (406) 896-5364 or (406) 896-5009.

SUPPLEMENTARY INFORMATION: This survey was executed at the request of the Bureau of Indian Affairs (BIA), and was necessary to determine ownership of accreted land and to also identify lands which have been lost to the river by erosion. The lands we surveyed are:

Principal Meridian, Montana

T. 26 N., R. 44 E.

The plat, representing the dependent resurvey of portions of the west boundary, subdivisional lines, the adjusted original meanders of the former left bank of the Missouri River, downstream through section 18 and the subdivision of section 18, and the survey of the meanders of the present left bank of the Missouri River, downstream through section 18, and certain division of accretion lines in section 18, Township 26 North, Range 44 East, Principal Meridian, Montana, was accepted November 1, 2002.

We will place a copy of the plat we described in the open files. It will be available to the public as a matter of information.

If BLM receives a protest against this survey, as shown on this plat, prior to the date of the official filing, we will stay the filing pending our consideration of the protest.

We will not officially file this plat until the day after we have accepted or dismissed all protests and they have become final, including decisions on appeals.

Dated: November 13, 2002.
Thomas M. Deiling,
Chief Cadastral Surveyor, Division of Resources.

[FR Doc. 02-29524 Filed 11-20-02; 8:45 am]

BILLING CODE 4310-DN-P